NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 6, 2017. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant—Permit Application: 2018-003

David Schutt, Penguins International, PO Box 100483, Denver, CO 80250.

Activity for Which Permit is Requested

Harmful Interference; Import Into USA. The applicant proposes to collect samples of feathers molted from gentoo penguins, Pygoscelis papua, (n=2400) and fragments from discarded eggshells of gentoo penguins (n=50) for use in a study of pollutant exposure in penguins across a wide latitudinal gradient. The applicant plans to collect these abandoned biological tissue samples at approximately eleven gentoo penguin colonies in the Antarctic Peninsula region. The applicant will collect samples opportunistically from the ground or from penguin carcasses from the periphery and/or low-density areas of the colonies in order to minimize disturbance to the penguins. The samples will be imported into the USA and will be analyzed at the home institution.

Location

West Antarctic Peninsula region including South Orkney Islands, Elephant Island, South Shetland Islands.

Dates

October 1, 2017-June 1, 2018.

2. Applicant—Permit Application: 2018-018

Vernon G. Chu, BBC Worldwide Americas, Inc, 747 Third Ave., 7th FL, New York, NY 10017-2803.

Activity for Which Permit is Requested

Take; Harmful Interference. The applicant proposes to film Weddell seals in the McMurdo Sound area. Up to 16 Weddell seals (eight mother and pup pairs) could be targeted and disturbed during filming on the sea ice, underwater, and by air via remotely piloted aircraft. Up to 80 additional Weddell seals may be disturbed as a result of the filming activities. The footage will be used in a BBC documentary series that is expected to be useful for education and outreach about Antarctica and the scientific research conducted there. The applicant has also applied for a commercial or education photography permit from the National Marine Fisheries Service under the authority of the Marine Mammal Protection Act of 1972, as amended (16 U.S.C. 1361 et seq.).

Location

McMurdo Sound, Antarctica.

Dates

October 1-December 15, 2017.

Nadene G. Kennedy,
Polar Coordination Specialist, Office of Polar Programs.

[FR Doc. 2017-21446 Filed 10-4-17; 8:45 am]

BILLING CODE 7555-01-P